DEPARTMENT OF THE TREASURY

United States Mint

Notification of 2008 American Eagle Platinum Proof Coin Pricing

SUMMARY: The United States Mint is setting prices for the 2008 American Eagle Platinum Proof Coins.

Pursuant to the authority that 31 U.S.C. 5111(a) and 5112(k) grant the Secretary of the Treasury to mint and issue platinum coins, and to prepare and distribute numismatic items, the United States Mint mints and issues 2008 American Eagle Platinum Proof Coins in four denominations with the following weights: One-ounce, one-half ounce, one-quarter ounce, one-tenth ounce. The United States Mint also produces American Eagle Platinum Proof four-coin sets that contain one coin of each denomination. In accordance with 31 U.S.C. 9701(b)(2)(B), the United States Mint is setting the price of these coins to reflect increases in the market price of platinum.

Accordingly, the United States Mint will commence selling the following 2008 American Eagle Platinum Proof Coins according to the following price schedule:

Description | Price
2008 American Eagle Platinum Proof Coins:
One-ounce platinum coin | $2,299.95
One-half ounce platinum coin | 1,174.95
One-quarter ounce platinum coin | 609.95
One-tenth ounce platinum coin | 269.95
Four-coin platinum set | 4,119.95

FOR FURTHER INFORMATION CONTACT: Gloria C. Eskridge, Associate Director for Sales and Marketing, United States Mint, 801 Ninth Street, NW., Washington, DC 20220; or call 202-354-7500.

Authority: 31 U.S.C. 5111, 5112 & 9701.

Edmund C. Moy,
Director, United States Mint.

[FR Doc. E8-9429 Filed 4-30-08; 8:45 am]

BILLING CODE 4810-02-P